DEPARTMENT OF JUSTICE

Antitrust Division

Notice Pursuant to the National Cooperative Research and Production Act of 1993—TeleManagement Forum

Notice is hereby given that, on October 8, 2015, pursuant to section 6(a) of the National Cooperative Research and Production Act of 1993, 15 U.S.C. 4301 et seq. (“the Act”), TeleManagement Forum (“The Forum”) filed written notifications simultaneously with the Attorney General and the Federal Trade Commission disclosing changes in its membership. The notifications were filed for the purpose of extending the Act's provisions limiting the recovery of antitrust plaintiffs to actual damages under specified circumstances. Specifically, the following parties have been added as members to this venture: Applied BSS, Ronneby, SWEDEN; Continental Automated Buildings Association, Ottawa, CANADA; Chinese Society For Urban Studies National Smart City Joint Lab, Beijing, PEOPLE'S REPUBLIC OF CHINA; ZhongXing (Yinchuan) Intellectual Industry Co. Ltd., Jinfeng District, PEOPLE'S REPUBLIC OF CHINA; GLOBEOSS, Shah Alam, MALAYSIA; Kavitha Shreedhar Ltd., Mount Pleasant, AUSTRALIA; Sinefa, Bulleen, AUSTRALIA; Grameenphone Ltd., Baridhara, BANGLADESH; Telenor Pakistan, Islamabad, PAKISTAN; Italtel S.p.A, Settimo Milane, ITALY; OpenLimits Business Solutions Lda, Coimbra, PORTUGAL; Orange Caraibe, Baie-Mahault, GUADELOUPE; Ultrafast Fibre Limited, Hamilton, NEW ZEALAND; Singer TC GmbH, Schwedeneck, GERMANY; Resolvetel Ltd., Henley-on-Thames, UNITED KINGDOM; Sutherland Labs, London, UNITED KINGDOM; Retixa, Warsaw, POLAND; Polaris Consulting & Services Ltd., Piscataway, NJ; State Information Technology Agency (SITA), Erasmuskloof, SOUTH AFRICA; EXFO Inc., Chelmsford, MA; CommTel Network Solutions Pty Ltd., Keilor Park, AUSTRALIA; Jetsynthesys, Pune, INDIA; My Republic, Singapore, SINGAPORE; ISPIN AG, Bassersdorf, SWITZERLAND; Apttus Corporation, San Mateo, CA; Parkyeri, İstanbul, TURKEY; Blackbridge Associates, Dubai, UNITED ARAB EMIRATES; IPvideosys, Sunnyvale, CA; Windstream Communications, Little Rock, AR; T&BS SAS, Paris, FRANCE; Mind C.T.I. Ltd., Yoqneam Ilit, ISRAEL; Vision Consulting Turkey, İstanbul, TURKEY; Qualycloud, Paris, FRANCE; Etihad Atheeb Telecom Company, Riyadh, SAUDI ARABIA; Nethys SA—Betv/VOO, Liège, BELGIUM; Datalynx Holding AG, Basel, SWITZERLAND; Tacira Technologies, São Paulo, BRAZIL; and Master Merchant Systems, Dartmouth, CANADA.

Also, the following members have changed their names: TNBS.FR to T&BS SAS, Paris, FRANCE; Albanian Mobile Communications Sh. A. to Telekom Albania Sh.A., Laprake, ALBANIA; JDSU to Viavi Solutions, Muehleweg, GERMANY; Mobile Telecommunications Company K.S.C.P to Zain Group, Kuwait City, KUWAIT; Voo to Nethys SA—Betv/VOO, Liège, BELGIUM; and Quindell Telecoms to SMI Technologies, Portsmouth, UNITED KINGDOM.

In addition, the following parties have withdrawn as parties to this venture: 4STARS Ltd., Zagreb, CROATIA; Affinegy, Inc., Austin, TX; AIST Limited, Stanmore, UNITED KINGDOM; Alvenie Systems Ltd., Purley, UNITED KINGDOM; Aria Systems Ltd., Reading, UNITED KINGDOM; ARSAT, Buenos Aires, ARGENTINA; Beijing C-platform Digital Technology Co., Ltd., Beijing, PEOPLE'S REPUBLIC OF CHINA; BNM Incorporated, Indialantic, FL; Boss Portal, Auckland, NEW ZEALAND; CableVision, SA, Buenos Aires, ARGENTINA; CalIT Consulting, Hurth, GERMANY; Cellex Networks Systems (2007) Ltd., Bne Beraq, ISRAEL; CIMI Corporation, Voorhees, NJ; CircuitVision, Tampa, FL; Clarebourne Consultancy Ltd., Farnham, UNITED KINGDOM; Conexion S.A., Asuncion, PARAGUAY; CSN Technology Pty Ltd., Eveleigh, AUSTRALIA; Cycle30, Seattle, WA; DAM Solutions, Mexico, MEXICO; DIRECTV, Inc., El Segundo, CA; EA Principals, Inc., Alexandria, VA; Ebizu Sdn. Bhd., Kuala Lumpur, MALAYSIA; Eirtech Communications, Cork, IRELAND; Enterprise Designer Institute, Daylesford, AUSTRALIA; e-Stratega S.R.L., Olivos, ARGENTINA; everis Chile S.A., Comuna De La Condes, CHILE; Frederick Serr Consulting, Concord, MA; Graphene, Palm Coast, FL; GVT, Curitiba, BRAZIL; Inidat Consulting, Capital Federal, ARGENTINA; Inline Telecom Solutions, Moscow, RUSSIA; Inswitch Solutions, Miami, FL; Integrated Architectures, LLC, Medway, MA; Integrated Research INC, Denver, CO; Intelligent Services Solutions Telecom, Giza, EGYPT; Interfacing Technologies Corp., Montreal, CANADA; iToolsOnline Ltd., Mt Albert, NEW ZEALAND; JSMN Inc., Cobh, IRELAND; Metabula Ltd., Cambridge, UNITED KINGDOM; MHM & Partner AG, Rotkreuz, SWITZERLAND; Millicom International Cellular S.A., Leudelange, LUXEMBOURG; NTG Clarity Networks Inc., Markham, CANADA; NVision group, Moscow, RUSSIA; OperTune Ltd., Oxford, UNITED KINGDOM; Optulink Inc., Naperville, IL; Piran Partners LLP, Windsor, UNITED KINGDOM; Polish Telephones Foundation, Warszawa, POLAND; Quantellia, Denver, CO; RampRate, Santa Monica, CA; Saugatuck Technology, Westport, CT; Semanticore Systems, Roodepoort, SOUTH AFRICA; Sequoia Telecom Associates, San Rafael, CA; SL Software Consult Hungary Ltd., Pécs, HUNGARY; Sprint, Overland Park, KS; Stanford McLeod & Associates Pty Ltd., Point Cook, AUSTRALIA; Stargue, Julianadorp, THE NETHERLANDS; tekten sp. z o.o., Warsaw, POLAND; TelecomAdvisors International S.A., Panama City, PANAMA; Telecom Argentina, S.A., Buenos Aires, ARGENTINA; Telecom Personal Argentina, Ciudad Autónoma de Buenos Aires, ARGENTINA; Tieto, Bühl, GERMANY; UBIqube Solutions, Grenoble, FRANCE; UNE EPM Telecomunicaciones S.A, S100 Loma Los Balsos, COLOMBIA; Unitel Group, Ulaanbaatar, MONGOLIA; Urbatech Group FZE, Casablanca, MOROCCO; VanceInfo Technologies Australia Pty. Ltd., Melbourne, AUSTRALIA; Velocent Systems, Inc., Naperville, IL; WANA CORPORATE, Casablanca, MOROCCO; Wataniya Palestine, Sateh Marhaba, Al Bireh, PALESTINE; Winkler Consulting, Rohr, GERMANY; Xenodon Consulting und Marketing GmbH, Darmstadt, GERMANY; Zimory, Berlin, GERMANY; Applied Network Solutions, Inc., Columbia, MD; Bobbil, Cobh, IRELAND; Broadband Infraco (SOC) Ltd., Woodmead, SOUTH AFRICA; Charter Communications, St. Louis, MO; Diplomatic Telecommunications Program Office (DTS-PO), Fairfax, VA; Forther Ltda, Sao Paulo, BRAZIL; IneoQuest Technologies, Inc., Mansfield, MA; Iprotel Limited, Reading, UNITED KINGDOM; Kaiser Permanente, Pleasanton, CA; Netformx, Inc., San Jose, CA; NISCERT Corporation, Toronto, CANADA; Northpower Fibre, Whangarei, NEW ZEALAND; one2tribe Sp. z o.o., Michalowice, POLAND; OPT Nouvelle Calédonie, Noumea, NEW CALEDONIA; POWERACT Consulting, Casablanca, MOROCCO; PT Indosat Tbk, Jakarta Pusat, INDONESIA; SpiderCloud Wireless, San Jose, CA; Tarantula, Slough, UNITED KINGDOM; Tata Communications Ltd., Mumbai, INDIA; Tom Sawyer Software, Berkley, CA; Vertek Corporation, Colchester, VT; and WebAction, Palo Alto, CA.

No other changes have been made in either the membership or planned activity of the group research project. Membership in this group research project remains open, and The Forum intends to file additional written notifications disclosing all changes in membership.

On October 21, 1988, the Forum filed its original notification pursuant to section 6(a) of the Act. The Department of Justice published a notice in the Federal Register pursuant to section 6(b) of the Act on December 8, 1988 (53 FR 49615).

The last notification was filed with the Department on July 8, 2015. A notice was published in the Federal Register pursuant to section 6(b) of the Act on July 30, 2015 (80 FR 45549).

Patricia A. Brink
Director of Civil Enforcement, Antitrust Division.

[FR Doc. 2015-29058 Filed 11-13-15; 8:45 am]

BILLING CODE P